ENVIRONMENTAL PROTECTION AGENCY

40 CFR Parts 60 and 62

[EPA-HQ-OAR-2016-0033; FRL-9949-36-OAR]

RIN 2060-AS84

Clean Energy Incentive Program Design Details; Extension of Comment Period

AGENCY: Environmental Protection Agency (EPA).

ACTION: Proposed rule; extension of comment period.

SUMMARY: On June 30, 2016, the Environmental Protection Agency (EPA) proposed a rule titled, “Clean Energy Incentive Program Design Details.” The EPA is extending the comment period on the proposed rule that was scheduled to close on August 29, 2016, by four days until September 2, 2016. The EPA is making this change to align the public comment period with the public hearing submittal time frame.

DATES: The public comment period for the proposed rule published in the Federal Register on June 30, 2016 (81 FR 42940), is being extended. Written comments must be received on or before September 2, 2016.

ADDRESSES: The EPA has established a docket for the proposed rulemaking (available at http://www.regulations.gov). The Docket ID No. is EPA-HQ-OAR-2016-0033. Information on this action is posted at https://www.epa.gov/cleanpowerplan/clean-energy-incentive-program. Submit your comments, identified by the appropriate Docket ID No. to the Federal eRulemaking Portal: http://www.regulations.gov. Follow the online instructions for submitting comments. Once submitted, comments cannot be edited or withdrawn. The EPA may publish any comment received to its public docket. Do not submit electronically any information you consider to be Confidential Business Information (CBI) or other information whose disclosure is restricted by statute. If you need to include CBI as part of your comment, please visit http://www.epa.gov/dockets/comments.html for instructions. Multimedia submissions (audio, video, etc.) must be accompanied by a written comment. The written comment is considered the official comment and should include discussion of all points you wish to make.

For additional submission methods, the full EPA public comment policy, and general guidance on making effective comments, please visit http://www.epa.gov/dockets/comments.html.

FOR FURTHER INFORMATION CONTACT: For additional information on this action, contact Dr. Tina Ndoh, Sector Policies and Programs Division, Office of Air Quality Planning and Standards (D243-04), Environmental Protection Agency, Research Triangle Park, NC 27711; telephone number: (919) 541-2750; email address: ndoh.tina@epa.gov.

SUPPLEMENTARY INFORMATION: To provide administrative simplicity for stakeholders by aligning the public comment period on the proposal with the 30-day timeframe for submissions after the public hearing on August 3, 2016, the EPA has decided to extend the public comment period until September 2, 2016.

Dated: July 13, 2016.
Michael Koerber,
Associate Director, Office of Air Quality Planning and Standards.

[FR Doc. 2016-17279 Filed 7-20-16; 8:45 am]

BILLING CODE 6560-50-P